DEPARTMENT OF JUSTICE

Antitrust Division

Notice Pursuant to the National Cooperative Research and Production Act of 1993—Information Warfare Research Project Consortium

Notice is hereby given that, on January 21, 2020, pursuant to Section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, 11 Cyber Services, LLC, Mt Pleasant, SC; 1901 Group, LLC, Reston, VA; A.T. Kearney Public Sector and Defense Services, LLC, Arlington, VA; A10 Systems LLC dba AiRANACULUS, Chelmsford, MA; Andro Computation Solutions, LLC, Rome, NY; AOSense, Inc., Sunnyvale, CA; Assured Information Security, Inc., Rome, NY; AURA Technologies, Raleigh, NC; Bcubed Engineering Corporation, Rockwall, TX; Center for Human Capital Innovation, Alexandria, VA; CGI Federal, Inc., Fairfax, VA; Cintel, Inc., Huntsville, AL; Clausewitz Technology Incorporated, Madison, AL; Client Solution Architects LLC (CSA), Mechanicsburg, PA; Commonwealth Computer Research, Inc. (CCRi), Charlottesville, VA; Companion Data Services, LLC, Columbia, SC; CSSI, Inc., Washington, DC; DataSource, Inc., McLean, VA; DRS Laurel Technologies, Johnstown, PA; Embry-Riddle Aeronautical University, Daytona Beach, FL; Federated Wireless, Inc., Arlington, VA; Foster Miller Inc. dba QinetiQ North America, Waltham, MA; Fuse Integration, Inc., San Diego, CA; GBS Laboratories, LLC dba InZero Systems, Herndon, VA; HQE Systems, Inc., Temecula, CA; Integrated Computer Solutions, Inc. (ICS), Waltham, MA; Interloc Solutions, Inc., Seattle, WA; InterSystems Corporation, Cambridge, MA; JTEK Data Solutions LLC, Bethesda, MD; KIHOMAC, Inc., Reston, VA; Kingfisher Systems, Inc., Falls Church, VA; Klas Telecom Government, Herndon, VA; L3 Technologies, Inc. Communications Systems West, Salt Lake City, UT; Maga Design Group, Incorporated, Washington, DC; Mercury Systems, Andover, MA; NCI Information Systems, Inc., Reston, VA; Next Tier Concepts, Inc. (NT Concepts), Vienna, VA; Nokia of America Corporation, Murray Hill, NJ; Nuvotronics, Inc., Durham, NC; One Network Enterprises, Inc., Dallas, TX; OneGlobe, LLC, Ashburn, VA; Palo Alto Networks Public Sector, LLC, Reston, VA; Reed Integration, Inc., Suffolk, VA; Rohde & Schwarz USA, Inc., Columbia, MD; RTSync Corp., Chandler, AZ; Serco Inc., Herndon, VA; ServiceNow, Inc., Santa Clara, CA; Signal Point Systems, Inc., Kennesaw, GA; Streif Enterprises, Inc. dba ibeeto, El Cajun, CA; Synergetics Incorporated, Fort Collins, CO; Technical Systems Integrators, Inc., Longwood, FL; TechTrend, Inc., Fairfax, VA; Three Wire Systems, LLC, Falls Church, VA; Trident Technical Solutions LLC dba Ardent Eagle Solutions, Tampa, FL; Triumph Enterprises, Inc., Vienna, VA; Tychon, LLC, Fredericksburg, VA; Universal Consulting Services, Inc., Fairfax, VA; University of South Carolina, Columbia, SC; and Veritech, LLC, Glendale, AZ have been added as parties to this venture.

Also, Applied Signals Intelligence, Inc., Sterling, VA; Aquabotix Technology Corporation, Fall River, MA; Atlantic CommTech Corp, Norfolk, VA; CogniTech Corporation, Salt Lake City, Utah; Craig Technologies, Cape Canaveral, FL; D23 LLC, Tysons, VA; D9Tech Resources LLC, Virginia Beach, VA; DroneShield LLC, Warrenton, VA; Dynamic Systems, El Segundo, CA; Engin LLC, Daniel Island, SC; ENT Technologies Inc., San Diego, CA; ForgeAi, Inc., Cambridge, MA; Gemtek Technology Inc. DBA Connect Pro., Walnut, CA; Georgia Tech Research Corporation, Atlanta, GA; Hamilton Consulting Solutions Corporation (HCSC), Chesapeake, VA; Indiana Microelectronics, LLC, West Lafayette, IN; Invitix LLC, dba Instant Technologies, Durham, NH; Minerva Systems & Technologies, LLC, Lexington, KY; Pacific Science & Engineering Group, Inc. San Diego, CA; Popily, Inc. d.b.a. New Knowledge, Austin, TX; Poplicus, Inc DBA Govini, Arlington, VA; Quantum Dimension, Inc., Huntington Beach, CA; Quest Government Services Inc. dba CenturyLink QGS, Arlington, VA; Spectral Analytics, LLC, San Diego, CA; and The Samraksh Company, Dublin, OH have withdrawn from this venture.

No other changes have been made in either the membership or planned activity of the group research project. Membership in this group research project remains open and IWRP intends to file additional written notifications disclosing all changes in membership.

On October 15, 2018, IWRP filed its original notification pursuant to Section 6(a) of the Act. The Department of Justice published a notice in the Federal Register pursuant to Section 6(b) of the Act on October 23, 2018 (83 FR 53499).

The last notification was filed with the Department on October 16, 2019. A notice was published in the Federal Register pursuant to Section 6(b) of the Act on October 30, 2019 (84 FR 58174).

Suzanne Morris,
Chief, Premerger and Division Statistics Unit, Antitrust Division.

[FR Doc. 2020-01819 Filed 1-30-20; 8:45 am]

BILLING CODE 4410-11-P